DEPARTMENT OF COMMERCE

National Oceanic and Atmospheric Administration

RIN 0648-XE52

Council Coordination Committee; Public Meeting

AGENCY: National Marine Fisheries Service (NMFS), National Oceanic and Atmospheric Administration (NOAA), Commerce.

ACTION: Notice of a public meeting.

SUMMARY: NMFS will host a meeting of the Council Coordination Committee (CCC), consisting of the Regional Fishery Management Council chairs, vice chairs, and executive directors in January 2008. The intent of this meeting is to discuss issues of relevance to the Councils, including FY 2008 budget allocations, implementation of provisions from the Magnuson-Stevens Fishery Conservation and Management Reauthorization Act (MSRA), and scientific fisheries research activities.

DATES: The meeting will begin at 9 a.m. on Tuesday, January 8, 2008, recess at 5 p.m. or when business is complete; reconvene at 8:30 a.m. on Wednesday, January 9, 2008, and adjourn by 5 p.m. or when business is complete; and reconvene at 8:30 a.m. on Thursday, January 10, 2007, and adjourn by noon.

ADDRESSES: The meeting will be held at the Crowne Plaza Hotel, 8777 Georgia Avenue, Silver Spring, MD 20910.

FOR FURTHER INFORMATION CONTACT: William D. Chappell: telephone (301) 713-2337 or e-mail at William.Chappell@noaa.gov; or Heidi Lovett; telephone: (301) 713-2337 or e-mail at Heidi.Lovett@noaa.gov.

SUPPLEMENTARY INFORMATION: The Magnuson-Stevens Fishery Conservation and Management Reauthorization Act (MSRA) of 2006 established the Council Coordination Committee (CCC) by amending Section 302 (16 U.S.C. 1852) of the Magnuson-Stevens Act. The committee consists of the chairs, vice chairs, and executive directors of each of the eight Regional Fishery Management Councils authorized by the Magnuson-Stevens Act or other Council members or staff. NMFS will host this meeting and provide reports to the Committee for its information and discussion. The main topics of discussion will be the FY2008 budget allocation, implementation of the provisions of the MSRA, and related guidance and technical regulatory changes. NMFS will also be holding a joint session of the CCC with the NMFS Science Board during the morning session on Wednesday, January 9, 2008 to discuss scientific and research activities related to MSRA implementation.

Agenda

Tuesday morning, January 8, 2008

FY 2008 budget allocation

Tuesday afternoon, January 8, 2008

FY 2008 budget allocation, continued;

Council performance and metrics; and

Council administrative session (closed session).

Wednesday morning, January 9, 2008

MSRA implementation:

•Annual catch limit and accountability measure guidance;

•Marine recreational information program (MRIP);

•Five year research plans; and

•Council Scientific and Statistical Committees, peer reviews, and stipends.

Wednesday afternoon, January 9, 2008

MSRA implementation continued:

•Revised NEPA/MSA procedures;

•International provisions and regulations;

•Exempted fishing permit procedures;

•Council Statements of Organization, Practices and Procedures (SOPPs) guidance;

•“Omnibus” technical changes to regulations;

•Jones Bill; and

•National fish habitat legislation.

Thursday morning, January 10, 2008

MSRA implementation continued, as needed;

•Permit fees; and

•Tax identification numbers.

The order in which the agenda items are addressed may change. The CCC will meet as late as necessary to complete scheduled business.

Special Accommodations

This meeting is physically accessible to people with disabilities. Requests for sign language interpretation or other auxiliary aids should be directed to Heidi Lovett at (301) 713-2337 at least 5 working days prior to the meeting.

Dated: December 18, 2007.
Tracey L. Thompson,
Acting Director, Office of Sustainable Fisheries, National Marine Fisheries Service.

[FR Doc. E7-24814 Filed 12-20-07; 8:45 am]

BILLING CODE 3510-22-S